DEPARTMENT OF ENERGY

Federal Energy Regulatory Commission

[Docket No. CP15-8-000]

Northwest Pipeline, LLC; Supplemental Notice of Intent To Prepare an Environmental Assessment for the Proposed Kalama Lateral Project and Request for Comments on Environmental Issues

On December 11, 2014, the Commission issued a “Notice of Intent to Prepare an Environmental Assessment for the Kalama Lateral Project and Request for Comments on Environmental Issues” (NOI). It has come to our attention that the environmental mailing list was not provided copies of the NOI; therefore, we are issuing this Supplemental NOI to extend the scoping period and provide additional time for interested parties to file comments on environmental issues.

The staff of the Federal Energy Regulatory Commission (FERC or Commission) will prepare an environmental assessment (EA) that will discuss the environmental impacts of the Kalama Lateral Project (Project), which would involve construction and operation of a new natural gas pipeline and associated facilities by Northwest Pipeline, LLC (Northwest) in Cowlitz County, Washington. The Commission will use this EA in its decision-making process to determine whether the Project is in the public convenience and necessity.

This notice announces an extension of the scoping process the Commission will use to gather input from the public and interested agencies on the Project. Your input will help the Commission staff determine what issues need to be evaluated in the EA. The NOI identified January 10, 2015 as the close of the scoping period. Please note that the scoping period is now extended and will close on February 12, 2015. You may submit comments as described in the Public Participation section of this notice.

This notice is being sent to the Commission's current environmental mailing list for this project. State and local government representatives should notify their constituents of this proposed project and encourage them to comment on their areas of concern.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

Northwest provided landowners with a fact sheet prepared by the FERC entitled “An Interstate Natural Gas Facility On My Land? What Do I Need To Know?” This fact sheet addresses a number of typically-asked questions, including the use of eminent domain and how to participate in the Commission's proceedings. It is also available for viewing on the FERC Web site (www.ferc.gov).

Summary of the Proposed Project

Northwest plans to construct and operate approximately 3.1 miles of 24-inch-diameter natural gas pipeline to provide 320,000 Dekatherms per day (Dth/d) of natural gas to a proposed methanol production facility to be located within the north industrial area of the Port of Kalama, in Cowlitz County, Washington. The proposed methanol plant is not under the jurisdiction of the Commission and would not be constructed or operated by Northwest. However, the environmental impact of the plant would be part of the state of Washington's State Environmental Policy Act review process.

The Kalama Lateral Project would transport natural gas to the methanol plant from Northwest's existing Ignacio/Sumas mainline in Cowlitz County, Washington. The project would require new appurtenances to tie the new pipeline into the existing mainline including a new tap and valve. Pig launcher facilities ¹ would be installed near the proposed interconnection with the mainline and at a new meter station facility constructed within the methanol plant. The new meter station facility would include standard appurtenances, piping, and buildings within an approximately 150-foot by 200-foot fenced area.

¹ A “pig” is a tool that is inserted into and moves through the pipeline and is used for cleaning the pipeline, internal inspections, or other purposes.

The general location of the planned facilities is shown in Appendix 1.²

² The appendices referenced in this notice are not being printed in the Federal Register. Copies of appendices were sent to all those receiving this notice in the mail and are available at www.ferc.gov using the link called “eLibrary” or from the Commission's Public Reference Room, 888 First Street NE., Washington, DC 20426, or call 202-502-8371. For instructions on connecting to eLibrary, refer to page 5 of this notice.

Land Requirements for Construction

Construction of the pipeline and aboveground facilities would disturb approximately 109.4 acres of land. Following construction, about 19.4 acres would be maintained within permanent easements for ongoing operation of the pipeline, aboveground facilities, and permanent access roads. The remaining acreage disturbed during construction would be restored and allowed to revert to former uses. These acreage estimates are based on Northwest's general intention to construct its pipeline using a 100-foot-wide right-of-way and to retain a 50-foot-wide permanent right-of-way.

Background

Under Docket Nos. PF12-2-000 and CP13-18-000, FERC reviewed a pipeline route that was substantially similar to the one currently proposed by Northwest. A NOI was issued on June 22, 2012. On May 8, 2013, Northwest formally withdrew its Application of Certificate of Public Convenience and Necessity for the Kalama Lateral Pipeline Project because the project proponent, Veresen U.S. Power Inc. terminated the Facilities Agreement. The project currently under review involves a pipeline following the same general corridor with a new customer located at the Port of Kalama.

The EA Process

The National Environmental Policy Act (NEPA) requires the Commission to take into account the environmental impacts that could result from an action whenever it considers the issuance of a Certificate of Public Convenience and Necessity. NEPA also requires us ³ to discover and address concerns the public may have about proposals. This process is referred to as “scoping.” The main goal of the scoping process is to focus the analysis in the EA on the important environmental issues. By this notice, the Commission requests public comments on the scope of the issues to address in the EA. We will consider all filed comments during the preparation of the EA.

³ “We,” “us,” and “our” refer to the environmental staff of the Commission's Office of Energy Projects (OEP).

In the EA we will discuss impacts that could occur as a result of the construction and operation of the planned project under these general headings:

• Geology and soils;

• water resources, fisheries, and wetlands;

• vegetation and wildlife;

• endangered and threatened species;

• cultural resources;

• land use;

• air quality and noise;

• public safety.

We will also evaluate reasonable alternatives to the proposed project or portions of the project, and make recommendations on how to lessen or avoid impacts on the various resource areas. We will present our independent analysis of the issues in the EA. The EA will be available in the public record through eLibrary. Depending on the comments received during the scoping process, we may also publish and distribute the EA to the public for an allotted comment period. We will consider all comments on the EA before we make our recommendations to the Commission. To ensure we have the opportunity to consider your comments, please carefully follow the instructions in the Public Participation section beginning on page 5 of this notice.

With this notice, we are asking agencies with jurisdiction by law and/or special expertise with respect to the environmental issues related to this project to formally cooperate with us in the preparation of the EA. Agencies that would like to request cooperating agency status should follow the instructions for filing comments provided under the Public Participation section of this notice.

Consultations Under Section 106 of the National Historic Preservation Act

In accordance with the Advisory Council on Historic Preservation's implementing regulations for Section 106 of the National Historic Preservation Act, we are using this notice to initiate consultation with the Washington State Historic Preservation Office (SHPO), and to solicit the SHPO's views and those of other government agencies, interested Indian tribes, and the public on the project's potential effects on historic properties.⁴ We will define the project-specific Area of Potential Effects (APE) in consultation with the SHPO as the project develops. On natural gas facility projects, the APE at a minimum encompasses all areas subject to ground disturbance (examples include construction right-of-way, contractor/pipe storage yards, and access roads). Our EA for this project will document our findings on the impacts on historic properties and summarize the status of consultations under Section 106.

⁴ The Advisory Council on Historic Preservation's regulations are at Title 36, Code of Federal Regulations, Part 800. Historic properties are defined in those regulations as any prehistoric or historic district, site, building, structure, or object included in or eligible for inclusion in the National Register for Historic Places.

Currently Identified Environmental Issues

We have already identified several issues that we think deserve attention based on a preliminary review of the planned facilities and the environmental information provided by Northwest and public comments. This preliminary list of issues may change based on your comments and our analysis.

These issues identified include:

• Geology and soils;

• land use; and

• public safety

This preliminary list of issues may be changed based on your comments and our analysis.

Public Participation

You can make a difference by providing us with your specific comments or concerns about the project. Your comments should focus on the potential environmental effects, reasonable alternatives, and measures to avoid or lessen environmental impacts. The more specific your comments, the more useful they will be. To ensure that your comments are timely and properly recorded, please send your comments so that they will be received in Washington, DC on or before January 9, 2015.

For your convenience, there are three methods which you can use to submit your comments to the Commission. In all instances please reference the project docket number (CP15-8-000) with your submission. The Commission encourages electronic filing of comments and has expert eFiling staff available to assist you at (202) 502-8258 or efiling@ferc.gov.

(1) You can file your comments electronically by using the eComment feature, which is located on the Commission's Web site at www.ferc.gov under the link to Documents and Filings. This is an easy method for interested persons to submit brief, text-only comments on a project;

(2) You can file your comments electronically by using the eFiling feature which is located on the Commission's Web site at www.ferc.gov under the link to Documents and Filings. With eFiling, you can provide comments in a variety of formats by attaching them as a file with your submission. New eFiling users must first create an account by clicking on “eRegister.” You will be asked to select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

When the EA is published, copies may be sent to the environmental mailing list for public review and comment. If you would prefer to receive a paper copy of the document instead of the CD version or would like to remove your name from the mailing list, please return the attached Information Request (Appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the project is available from the Commission's Office of External Affairs, at (866) 208-FERC, or on the FERC Web site at www.ferc.gov using the “eLibrary” link. Click on the eLibrary link, click on “General Search” and enter the docket number, excluding the last three digits in the Docket Number field (i.e., CP15-8). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: January 13, 2015.
Kimberly D. Bose,
Secretary.

[FR Doc. 2015-00735 Filed 1-16-15; 8:45 am]

BILLING CODE 6717-01-P